DEPARTMENT OF VETERANS AFFAIRS

Enhanced-Use Lease Transaction of Underutilized Property at the Department of Veterans Affairs Medical Center, North Chicago, IL

AGENCY: Department of Veterans Affairs.

ACTION: Notice of designation.

SUMMARY: The Secretary of the Department of Veterans Affairs is designating the Veterans Affairs Medical Center at North Chicago, IL, for an Enhanced-Use lease development. The Department intends to enter into a long-term lease (up to 75 years) of underutilized real property under VA's control and jurisdiction with The Finch University of Health Sciences/The Chicago Medical School (CMS), an educational institution affiliate of the VA Medical Center. Under the proposal, CMS would use the out-leased real property for future expansion of their existing facilities as well as development of new facilities. In return for this Enhanced-Use lease, CMS will provide “fair consideration” including the purchase energy products from an energy center being developed on the North Chicago VA Medical Center campus.

FOR FURTHER INFORMATION CONTACT: Ed Bradley, Office of Asset Enterprise Management (004B), Department of Veterans Affairs, 810 Vermont Avenue, NW., Washington, DC 20420, (202) 273-9702.

SUPPLEMENTARY INFORMATION: 38 U.S.C. 8161 et seq., specifically provides that the Secretary may enter into an Enhanced-Use lease, if he determines that at least part of the use of the property under the lease will be to provide appropriate space for an activity contributing to the mission of VA; the lease will not be inconsistent with and will not adversely affect the mission of VA; and the lease will enhance the property or result in improved services to veterans. This project meets these requirements.

Dated: October 5, 2001.
Anthony J. Principi,
Secretary of Veterans Affairs.

[FR Doc. 01-28724 Filed 11-15-01; 8:45 am]

BILLING CODE 8320-01-P